DEPARTMENT OF COMMERCE

National Oceanic and Atmospheric Administration

RIN 0648-XE134

South Atlantic Fishery Management Council (SAFMC); Public Meetings

AGENCY: National Marine Fisheries Service (NMFS), National Oceanic and Atmospheric Administration (NOAA), Commerce.

ACTION: Notice of public meetings.

SUMMARY: The South Atlantic Fishery Management Council (Council) will hold meetings of the Habitat Protection and Ecosystem-Based Management Committee; Protected Resources Committee; Dolphin Wahoo Committee; Personnel Committee (Closed Session); Advisory Panel Selection Committee (Closed Session); Southeast Data, Assessment and Review (SEDAR) Committee (partially Closed Session); King and Spanish Mackerel Committee; Snapper Grouper Committee; Data Collection Committee; Law Enforcement Committee; Executive Finance Committee; and a meeting of the Full Council. The Council will also hold a Council Member Visioning Workshop for the Snapper Grouper Fishery. The Council will take action as necessary. The Council will also hold a formal public comment session.

DATES: The Council meeting will be held from 8:30 a.m. on Monday, September 14, 2015 until 12 noon on Friday, September 18, 2015.

ADDRESSES:

Meeting address: The meeting will be held at The Beach House Hilton Head Island, 1 South Forest Beach Drive, Hilton Head Island, SC 29928; phone: (800) 315-2621 or (843) 785-5126; fax (843) 785-7753.

Council address: South Atlantic Fishery Management Council, 4055 Faber Place Drive, Suite 201, N. Charleston, SC 29405.

FOR FURTHER INFORMATION CONTACT: Kim Iverson, Public Information Officer, SAFMC; phone (843) 571-4366 or toll free (866) SAFMC-10; fax (843) 769-4520; email: kim.iverson@safmc.net.

SUPPLEMENTARY INFORMATION: The items of discussion in the individual meeting agendas are as follows:

Council Member Visioning Workshop, Monday, September 14, 2015, 8:30 a.m. Until 12 Noon

1. Council members will receive a recap of the June 2015 Visioning Workshop, review public input on the draft Vision Blueprint, discuss planning for the October Council Visioning Workshop, and provide guidance to staff.

Habitat Protection and Ecosystem-Based Management Committee, Monday, September 14, 2015, 1:30 p.m. Until 2:30 p.m.

1. The committee will review the status of the Fishery Ecosystem Plan II development and receive updates on Ecosystem modelling, and Essential Fish Habitat.

2. The committee will discuss the gear stowage language in Coral Amendment 8 and the rulemaking to implement the amendment. The committee will provide recommendations for Council consideration.

Protected Resources Committee, Monday, September 14, 2015, 2:30 p.m. Until 3:30 p.m.

1. The Committee will receive updates on protected resource-related issues, receive an overview of the Biological Opinion for the Coastal Migratory Pelagic fishery, and updates on the status of the Endangered Species Act/Magnuson-Stevens Act Integration Agreement and issues from the U.S. Fish and Wildlife Service.

Dolphin Wahoo Committee, Monday, September 14, 2015, 3:30 p.m. Until 5:30 p.m.

1. The committee will receive an update on the status of commercial and recreational catches versus annual catch limits (ACLs), a presentation on recent landings and quota monitoring issues in 2014 and 2015, and an overview of commercial catches and past consideration of trip limits.

2. The committee will discuss issues and provide guidance to staff.

Personnel Committee, Tuesday, September 15, 2015, 8 a.m. Until 9 a.m. (Closed Session)

1. The committee will review the staff retirement health insurance proposal and receive an update on the search for a new Executive Director.

Advisory Panel Selection Committee, Tuesday, September 15, 2015, 9 a.m. Until 10 a.m. (Closed Session)

1. The committee will review applications for open advisory panel seats and develop recommendations for Council consideration.

SEDAR Committee, Tuesday, September 15, 2015, 10 a.m. Until 11 a.m. (Partially Closed Session)

1. The committee will appoint goliath grouper reviewers for the SEDAR 47 Review Workshop (Closed Session)

2. The committee will review and approve the Terms of References for the golden tilefish stock assessment update and goliath grouper workshop, review and approve the Council's Research Plan, receive an update on the Headboat Data Evaluation from NOAA Fisheries, and develop 2017-19 assessment priorities.

3. The committee will provide recommendations for Council consideration.

King and Spanish Mackerel Committee, Tuesday, September 15, 2015, 11 a.m. Until 12 Noon

1. The committee will receive an update on the status of commercial and recreational catches versus ACLs and an update on the status of amendments under Formal Review.

2. The committee will receive a report on the Gulf of Mexico Fishery Management Council actions relative to the Coastal Migratory Pelagics FMP.

3. The committee will review Coastal Migratory Pelagics Amendment 26 addressing king mackerel ACLs, allocations, stock boundary options, and sales provisions, modify the amendment as necessary and select preferred alternatives.

Snapper Grouper Committee, Tuesday, September 15, 2015, 1:30 p.m. Until 5:30 p.m. and Wednesday, September 16, 2015, From 8:30 a.m. Until 5 p.m.

1. The committee will receive updates from NOAA Fisheries on the status of catches versus annual catch limits and the status of amendments currently under formal Secretarial review.

2. The committee will receive a report from the Scientific and Statistical Committee, discuss measures for blueline tilefish including the development of a regulatory amendment to modify the Acceptable Biological Catch (ABC) and Annual Catch Limit (ACL). The committee will modify the draft document, select preferred management alternatives and approve for public hearings. The committee will also review the Options Paper for Amendment 38 to the Snapper Grouper Fishery Management Plan (FMP) for blueline tilefish and provide guidance to staff.

3. The committee will review public hearing comments for Snapper Grouper Regulatory Amendment 16 (black sea bass pot closure), develop recommendations for modifying the document, select preferred management alternatives, and approve actions in the amendment.

4. The committee will receive an update of the Southeast Reef Fish Survey, discuss and provide recommendations as appropriate.

5. The committee will review public scoping comments on Amendment 37 to the Snapper Grouper FMP addressing measures for hogfish, discuss and provide direction to staff.

6. The committee will receive an overview of Snapper Grouper Regulatory Amendment 23 addressing management measures for golden tilefish, black sea bass and the Jacks Complex, review public scoping comments, discuss and provide direction to staff.

7. The committee will also review draft Amendment 41 to the FMP addressing measures for mutton snapper and provide direction to staff.

8. The committee will review the second round of public hearing comments for Snapper Grouper Amendment 36 (Spawning Special Management Zones), modify the document as appropriate and provide recommendations relative to actions in the amendment to the Council.

9. The committee will receive an overview of the Joint South Atlantic and Gulf of Mexico South Florida Amendment, develop recommendations for modifying the document as appropriate, and provide guidance to staff.

10. The committee will receive an overview of a possible approach for a Red Snapper Amendment for the 2016 red snapper season, provide recommendations on approving the amendment for public scoping, and provide guidance to staff.

11. The committee will review recommendations from the Oculina Evaluation Team Report and provide guidance to staff. The committee will also receive an update on approaches to monitor recreational harvest of deepwater species, discuss, and provide guidance to staff.

Formal Public Comment, Wednesday, September 16, 2015, 5:30 p.m.—Public comment will be accepted on any items on the Council agenda. The Chairman, based on the number of individuals wishing to comment, will determine the amount of time provided to each commenter.

Data Collection Committee, Thursday, September 17, 2015, 8:30 a.m. Until 11 a.m. (Partially Close Session)

1. The committee will make appointments for the Council's Citizen Science Workshop (Closed Session).

2. The committee will receive an update on the status of bycatch work from NOAA Fisheries, a presentation on the National Observer Program and an overview of the Comprehensive Ecosystem-Based Amendment addressing bycatch. The Committee will discuss the amendment and provide guidance to staff.

3. The committee will receive an overview of the Implementation Plan for Commercial Logbook Reporting and take action as appropriate. The committee will also receive an update on NOAA Fisheries' Commercial Logbook Pilot Study.

4. The committee will receive an overview of the joint Gulf of Mexico Council and South Atlantic Council Generic Charterboat Reporting Amendment, review the document, select preferred alternatives, and approve the amendment for public hearings.

Law Enforcement Committee, Thursday, September 17, 2015, 11 a.m. Until 12 Noon

1. The committee will receive a presentation on the use of Operator Permits in the Southeast as it relates to enforcement operations, discuss and provide guidance to staff.

Executive Finance Committee, Thursday, September 17, 2015, 1:30 p.m. Until 3 p.m.

1. The committee will receive an update on the status of Calendar-Year 2015 budget expenditures.

2. Address the Council Follow-up and priorities.

3. Discuss the webinar format used in recent public input sessions, provide direction to staff, and address other issues as appropriate.

Council Session: Thursday, September 17, 2015 3:30 p.m. Until 5:30 p.m. and Friday, September 18, 2015, 8:30 a.m. Until 12 Noon

Thursday, September 17, 2015, 3:30 p.m. Until 5:30 p.m.

3:30-4 p.m.: Call the meeting to order, adopt the agenda, approve the June 2015 meeting minutes, elect Chair and Vice-Chair and present the Law Enforcement Officer of the Year Award.

4-4:30 p.m.: The Council will receive a report from the Snapper Grouper Committee, and approve/disapprove Snapper Grouper Blueline Tilefish Framework Action for public hearings; approve/disapprove all actions in Snapper Grouper Regulatory Amendment 16; approve/disapprove all actions in Snapper Grouper Amendment 36; and approve/disapprove Snapper Grouper Amendment 41 and the Red Snapper Amendment for public scoping.

4:30-4:45 p.m.: The Council will receive a report from the Mackerel Committee, consider recommendations, and take action as appropriate.

4:45-5 p.m.: The Council will receive a report from the Advisory Panel Selection Committee, consider recommendations, and appoint/reappoint advisory panel members as necessary.

5-5:15 p.m.: The Council will receive a report from the Council Member Visioning Workshop, consider recommendations, and take action as appropriate.

5:15-5:30 p.m.: The Council will receive a report from the Habitat Protection and Ecosystem-Based Management Committee, consider committee recommendations, and take action as appropriate.

Friday, September 18, 2015, 8:30 a.m. Until 12 Noon

8:30-8:45 a.m.: The Council will receive a report from the Protected Resources Committee, consider recommendations and take action as appropriate.

8:45-9 a.m.: The Council will receive a report from the SEDAR Committee, appoint goliath grouper reviewers and an SSC panellist for the SEDAR 41 Assessment Workshop. The Council will approve the Terms of References for the golden tilefish stock assessment update and goliath grouper workshop, consider other committee recommendations and take action as appropriate.

9-9:15 a.m.: The Council will receive a report from the Executive Finance Committee, approve the Council Follow-Up and Priorities, consider other committee recommendations and take action as appropriate.

9:15-9:30 a.m.: The Council will receive a report from the Dolphin Wahoo Committee, consider committee recommendations and take action as appropriate.

9:30-9:45 a.m.: The Council will receive a report from the Data Collection Committee, approve/disapprove the Joint Gulf and South Atlantic Generic Charterboat Reporting Amendment for public hearings, appoint Citizen Science Workshop participants, consider other recommendations and take action as appropriate.

9:45 a.m.-10 a.m.: The Council will receive a report from the Law Enforcement Committee, consider committee recommendations and take action as appropriate.

10-10:15 a.m.: The Council will receive a report from the Personnel Committee, approve/disapprove the staff retirement health insurance plan, consider other committee recommendations and take action as appropriate.

10:15-12 noon: The Council will receive status reports from NOAA Fisheries Southeast Regional Office and the Southeast Fisheries Science Center. The Council will review and develop recommendations on Experimental Fishing Permits as necessary; receive agency and liaison reports; and discuss other business and upcoming meetings.

Documents regarding these issues are available from the Council office (see ADDRESSES).

Although non-emergency issues not contained in this agenda may come before these groups for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the Council office (see ADDRESSES) 3 days prior to the meeting.

Note: The times and sequence specified in this agenda are subject to change.

Authority: 16 U.S.C. 1801 et seq.

Dated: August 25, 2015.
Tracey L. Thompson,
Acting Deputy Director, Office of Sustainable Fisheries, National Marine Fisheries Service.

[FR Doc. 2015-21349 Filed 8-27-15; 8:45 am]

BILLING CODE 3510-22-P